EQUAL EMPLOYMENT OPPORTUNITY COMMISSION

Sunshine Act; Meetings

Date and Time: Thursday, March 24, 2005, 1 p.m. Eastern Time.

Place: Clarence M. Mitchell, Jr. Conference Room on the Ninth Floor of the EEOC Office Building, 1801 “L” Street, NW., Washington, DC 20507.

Status: The meeting will be open to the public.

Matters to be Considered:

Open Season

1. Announcement of Notation Votes, and

2. Spring 2005 Regulatory Agenda

Note: In accordance with the Sunshine Act, this meeting will be open to public observation of the Commission's deliberations and voting. (In addition to publishing notices on EEOC Commission meetings in the Federal Register, the Commission also provides a recorded announcement a full week in advance on future Commission sessions.)

Please telephone (202) 663-7100 (voice) and (202) 663-4074 (TTY) at any time for information on these meetings. Contact Person for More Information: Stephen Llewellyn, Acting Executive Officer on (202) 663-4070.

Dated: March 23, 2005.
Stephen Llewellyn,
Acting Executive Officer, Executive Secretariat.

[FR Doc. 05-6093 Filed 3-23-05; 4:12 pm]

BILLING CODE 6750-06-M